DEPARTMENT OF TRANSPORTATION

National Highway Traffic Safety Administration

49 CFR Part 571

Federal Motor Vehicle Safety Standards

CFR Correction

In Title 49 of the Code of Federal Regulations, Parts 400 to 999, revised as of October 1, 2002, in § 571.217, remove the duplicated text, beginning with S5.2.2.3 on page 637 through the end of the first Table 2, in column 1 on page 638.

[FR Doc. 03-55523 Filed 8-13-03; 8:45 am]

BILLING CODE 1505-01-D